DEPARTMENT OF TRANSPORTATION

Surface Transportation Board

[STB Finance Docket No. 35358]

Regional Transportation District—Acquisition Exemption—BNSF Railway Company in Jefferson County, CO

Regional Transportation District (RTD),¹ has filed a verified notice of exemption under 49 CFR 1150.41 to acquire from BNSF Railway Company (BNSF) a segment of the property, approximately 9.55 miles in length, known as the Golden Subdivision in Jefferson County, CO, extending from milepost 6.3, in Utah Junction, CO, to the end of the line at approximately milepost 15.85, in Golden, CO. RTD will acquire the Golden Subdivision in two separate but contiguous segments, including: (1) The Gold Corridor East portion between milepost 6.3 and milepost 10.83; and (2) the Gold Corridor West portion between milepost 10.83 and milepost 15.85.² According to RTD, BNSF will retain an exclusive freight easement for the trackage on the Golden Subdivision, and BNSF will retain the exclusive right to operate freight service on the entire line.

¹ RTD is a political subdivision of the State of Colorado.

² RTD will also acquire an easement over a portion of BNSF's Front Range Subdivision from milepost 0 to approximately milepost 6.3, for the operation of passenger commuter rail service. RTD states BNSF will retain its fee interest in the Front Range Subdivision and will continue its existing freight operations on that line.

RTD states that RTD and BNSF anticipate that they will execute three agreements in conjunction with this transaction before consummating the transaction on or about April 5, 2010, after the April 4, 2010 effective date of this exemption (30 days after the exemption was filed). These agreements include: (a) Purchase and Sale Agreement; (b) Relocation and Construction Agreement; and (c) Joint Corridor Use Agreement. According to RTD, it will acquire no right or obligation to provide freight rail service on the Golden Subdivision, and it is acquiring the property for the purpose of providing intrastate passenger commuter rail operations.³ RTD certifies that, because it will conduct no freight operations on the line segments being acquired, its annual revenues from freight operations as a result of this transaction will not result in the creation of a Class I or Class II rail carrier.

³ RTD states that it will separately file a motion to dismiss this notice of exemption because it avers that it will not become a rail carrier providing transportation subject to Board jurisdiction.

If the notice contains false or misleading information, the exemption is void ab initio. Petitions to revoke the exemption under 49 U.S.C. 10502(d) may be filed at any time. The filing of a petition to revoke does not automatically stay the transaction. Petitions for stay must be filed no later than March 26, 2010 (at least 7 days before the exemption becomes effective).

An original and 10 copies of all pleadings, referring to STB Finance Docket No. 35358, must be filed with the Surface Transportation Board, 395 E Street, SW., Washington, DC 20423-0001. In addition, a copy of each pleading must be served on Charles A. Spitulnik, 1001 Connecticut Avenue, NW., Suite 800, Washington, DC 20036.

Board decisions and notices are available on our Web site at www.stb.dot.gov.

Decided: March 15, 2010.
By the Board, Rachel D. Campbell, Director, Office of Proceedings.
Kulunie L. Cannon,
Clearance Clerk.

[FR Doc. 2010-6037 Filed 3-18-10; 8:45 am]

BILLING CODE 4915-01-P